DEPARTMENT OF HOUSING AND URBAN DEVELOPMENT

[Docket No. FR-4800-FA-18]

Announcement of Funding Awards—Fiscal Year 2003; Resident Opportunity and Self-Sufficiency Programs

AGENCY: Office of Public and Indian Housing, HUD.

ACTION: Announcement of funding awards.

SUMMARY: In accordance with Section 102(a)(4)(C) of the Department of Housing and Urban Development Reform Act of 1989, this announcement notifies the public of funding decisions made by the Department for funding under the Fiscal Year 2003 (FY2003) Notice of Funding Availability (NOFA) for the Resident Opportunity and Self Sufficiency Programs for FY2003. This announcement contains the consolidated names and addresses of those award recipients selected for each state.

FOR FURTHER INFORMATION CONTACT: For questions concerning the FY2003 Resident Opportunities and Self Sufficiency (ROSS) awards, contact the Office of Public and Indian Housing's Grants Management Center, Director, Iredia Hutchinson, Department of Housing and Urban Development, Washington, DC 20410-5000, telephone (202) 358-0221. For the hearing or speech impaired, these numbers may be accessed via TTY (text telephone) by calling the Federal Information Relay Service at (800) 877-8339. (Other than the “800” TTY number, these telephone numbers are not toll-free.)

SUPPLEMENTARY INFORMATION: The authority for $49.67 million in budget authority for use in the housing of elderly and non-elderly and disabled families is found in the Departments of Veteran Affairs and Housing and Urban Development and Independent Agencies Appropriations Act, FY2003 (Pub.L. 108). The allocation of housing assistance budget authority is pursuant to the provisions of 24 CFR part 791, subpart D, implementing section 213(d) of the Housing and Community Development Act of 1974, as amended.

These programs are intended to provide funding under the Resident Opportunities and Self-Sufficiency (ROSS) program, to link services to public housing residents by providing grants for supportive service, resident empowerment activities, and activities that assist residents in becoming economically self-sufficient. The FY2003 awards announced in this Notice were selected for funding as announced in a Federal Register NOFA published on April 25, 2003 (68 FR 21905). Applications were scored based on the selection criteria in that notice and funding selections were made based on the rating and ranking of applications within each state.

In accordance with Section 102(a)(4)(C) of the Department of Housing and Urban Development Reform Act of 1989 (013 Stat. 1987, 42 U.S.C. 3545), the Department is publishing the names, addresses, and amounts of a total of 204 awards—60 awards made under the Neighborhood Networks, 40 awards under the Homeownership Supportive Services, 55 awards under the Resident Service Delivery Models Elderly and Persons with Disabilities, and 49 awards under the Resident Service Delivery Models—Family competitions.

Dated: September 22, 2006.
Paula O. Blunt,
General Deputy Assistant Secretary for Public and Indian Housing.

Resident Opportunity and Self Sufficiency—Homeownership Supportive Services
Applicant Name: | Address: | City: | State | Zip | Amount
Mobile Housing Board | 151 South Claiborne Street, P.O. Box 1345 | Mobile | Alabama | 36602 | $500,000
White Mountain Apache Housing Authority, | P.O. Box 1270 | Whiteriver | Arizona | 85941 | 350,000
Housing Authority City of San Bernardino | 715 East Brier Drive | San Bernadino | California | 92408-2841 | 350,000
Housing Authority of the City of Los Angeles | 2600 Wilshire Boulevard, 3rd Floor | Los Angeles | California | 90057 | 500,000
Hartford Housing Authority | 475 Flatbush Avenue | Hartford | Connecticut | 06106 | 250,000
Meriden Housing Authority | 22 Church Street, P.O. Box 911 | Meriden | Connecticut | 06451 | 250,000
Housing Authority of the City of Fort Pierce | 707 North 7th Street | Fort Pierce | Florida | 34950 | 250,000
Housing Authority of the City of Orlando, Florida | 300 Reeves Court | Orlando | Florida | 32801 | 250,000
Lakeland Housing Authority | 430 S. Hartsell Avenue | Lakeland | Florida | 33815 | 250,000
Tallahassee Housing Authority | 2940 Grady Road | Tallahassee | Florida | 32312 | 250,000
Nez Perce Tribal Housing Authority | P.O. Box 188 | Lapwai | Idaho | 83540 | 250,000
The Housing Authority of the City of East St. Louis | 700 North 20th Street | East St. Louis | Illinois | 62205 | 350,000
Indianapolis Housing Agency | 1919 North Meridian | Indianapolis | Indiana | 46202 | 350,000
Lawrence-Douglas County Housing Authority | 1600 Haskell Ave | Lawrence | Kansas | 66044 | 250,000
Housing Authority of the City of Annapolis | 1217 Madison Street | Annapolis | Maryland | 21403 | 250,000
Housing Authority of the City of Jackson, MS | 2747 Livingston Road | Jackson | Mississippi | 39213 | 249,685
Housing Authority Of Kansas City, Missouri | 301 East Armour | Kansas City | Missouri | 64111 | 350,000
Lafayette (Saline) County Housing Authority | 1415 South Odell | Marshall | Missouri | 65351 | 71,505
Truth or Consequences Housing Authority | 108 South Cedar Street | Truth or Consequences | New Mexico | 87901 | 250,000
City of Dunkirk Housing Authority | 15 North Main Street | Dunkirk | New York | 14048 | 114,592
Ithaca Housing Authority | 800 South Plain Street | Ithaca | New York | 14850 | 150,000
Gastonia Housing Authority | P.O. Box 2398, 340 West Long Avenue | Gastonia | North Carolina | 28053-2398 | 250,000
Greensboro Housing Authority | 450 North Church Street, P.O. Box 21287 | Greensboro | North Carolina | 27401 | 185,112
Lucas Metropolitan Housing Authority | 435 Nebraska Avenue | Toledo | Ohio | 43602 | 350,000
Portage Metropolitan Housing Authority | 2832 State Route 59 | Ravenna | Ohio | 44266 | 250,000
Housing Authority of the City of Shawnee | P.O. Box 3427 | Shawnee | Oklahoma | 74802-3427 | 250,000
Oklahoma City Housing Authority | 1700 North East 4th Street | Oklahoma City | Oklahoma | 73117 | 223,869
Umatilla Reservation Housing Authority | P.O. Box 1658 | Pendelton | Oregon | 97801 | 211,600
Philadelphia Housing Authority | 12 S. 23rd Street | Philadelphia | Pennsylvania | 19103 | 861,366
Westmoreland County Housing Authority | R.D. #6, P.O. Box 223, South Greengate Road | Greensburg | Pennsylvania | 15601-9308 | 217,412
Pawtucket Housing | 214 Roosevelt Avenue | Pawtucket | Rhode Island | 02860 | 250,000
Lakota Fund | P.O. Box 340, Pine Ridge Indian Reservation | Kyle | South Dakota | 57752 | 250,000
Oglala Sioux Tribe | P.O. Box 3001 | Pine Ridge | South Dakota | 57770 | 250,000
Partnership for Housing, Chattanooga Housing Authority | P.O. Box 1486 | Chattanooga | Tennessee | 37401 | 500,000
Jackson Housing Authority | 125 Preston Street | Jackson | Tennessee | 38301 | 250,000
Housing Authority of the City of Dallas, Texas | 3939 N. Hampton Road | Dallas | Texas | 75212 | 500,000
City of Roanoke Redevelopment and Housing Authority | P.O. Box 6359, 2624 Salem Turnpike, NW. | Roanoke | Virginia | 24017 | 250,000
Danville Redevelopment and Housing Authority | P.O. Box 2669, 651 Cardinal Place | Danville | Virginia | 24541 | 250,000
Waynesboro Redevelopment & Housing Authority | P.O. Box 1138, 1700 New Hope Road | Waynesboro | Virginia | 22980 | 250,000
Housing Authority of the City of Milwaukee | 809 North Broadway | Milwaukee | Wisconsin | 53202 | 350,000
Resident Opportunity & Self Sufficiency—Neighborhood Networks
Huntsville Housing | 200 Washington Street | Huntsville | Alabama | 35804-0486 | 100,000
Mobile Housing Board | P.O. Box 1345, 151 South Claiborne Street | Mobile | Alabama | 36633-1345 | 50,000
Sylacauga Housing | P.O. Box 539 | Sylacauga | Alabama | 35150 | 50,000
Tuscaloosa Housing Authority | 2808 10th Avenue, P.O. Box 2281 | Tuscaloosa | Alabama | 35403-2281 | 100,000
Housing Authority of the City of Los Angeles | 2600 Wilshire Boulevard, Third Floor | Los Angeles | California | 90057 | 250,000
Housing Authority of the County of San Bernardino | 715 East Brier Drive | San Bernardino | California | 92408-2841 | 100,000
San Diego Housing Commission | 1625 Newton Avenue | San Diego | California | 92113-1038 | 100,000
The Housing Authority of the City and County of Denver | 777 Grant Street | Denver | Colorado | 80203 | 250,000
Housing Authority of the City of Norwalk | P.O. Box 508, 24 \1/2\ Monroe Street | Norwalk | Connecticut | 06856-0508 | 150,000
Meriden Housing Authority | P.O. Box 911, 22 Church Street | Meriden | Connecticut | 06451 | 50,000
Howard University | 600 W Street, N.W. | Washington | District of Columbia | 20001 | 299,998
Housing Authority of the City of Fort Myers | 4224 Michigan Avenue | Ft. Myers | Florida | 33916 | 150,000
Housing Authority of the City of Carrollton | P.O. Box 627, 1 Roop Street | Carrollton | Georgia | 30117 | 150,000
Housing Authority of the City of Jonesboro | P.O. Box 458, 203 Hightower Street | Jonesboro | Georgia | 30236 | 150,000
Housing and Community Development Corporation of Hawaii | 677 Queen Street, Suite 300 | Honolulu | Hawaii | 96813 | 250,000
Manhattan Housing Authority | P.O. Box 1024, 300 N. 5th St. | Manhattan | Kansas | 66505 | 50,000
Topeka Housing Authority | 2010 SE. California Ave | Topeka | Kansas | 66607 | 150,000
Campbellsville Housing and Redevelopment | 400 Ingram Avenue, P.O. Box 597 | Campbellsville | Kentucky | 42719 | 50,000
Housing Authority of Bowling Green | P.O. Box 116 | Bowling Green | Kentucky | 42102 | 150,000
Housing Authority of Henderson | 111 South Adams Street | Henderson | Kentucky | 42420 | 50,832
Housing Authority of Martin | P.O. Box 806 | Martin | Kentucky | 41649 | 150,000
Housing Authority of Murray | 716 Nash Drive | Murray | Kentucky | 42071 | 50,000
Housing Authority of Williamsburg | 600 Brush Arbor | Williamsburg | Kentucky | 40769 | 50,000
Lebanon Housing Authority | P.O. Box 633, 100 Sunset Terrace | Lebanon | Kentucky | 40033 | 50,000
East Baton Rouge Parish Housing Authority | 4731 North Boulevard | Baton Rouge | Louisiana | 70806 | 150,000
Housing Authority of the City of Monroe | 300 Harrison Street | Monroe | Louisiana | 71201 | 244,598
Housing Authority of the City of Jackson, MS | 2747 Livingston Road | Jackson | Mississippi | 39213 | 150,000
Natchez Housing Authority | 2 Auburn Avenue | Natchez | Mississippi | 39120 | 150,000
Housing Authority of Kansas City, Missouri | 301 East Armour | Kansas City | Missouri | 64111 | 100,000
Omaha Housing Authority | 540 S. 27th Street | Omaha | Nebraska | 68105 | 250,000
Albany Housing Authority | 200 South Pearl Street | Albany | New York | 12203 | 150,000
Boys & Girls Club of Schenectady | P.O. Box 466 | Schenectady | New York | 12301 | 253,275
Buffalo Municipal Housing Authority | 300 Perry Street | Buffalo | New York | 14204 | 100,000
New York City Housing Authority | 250 Broadway | New York | New York | 10007 | 450,000
Syracuse Housing Authority | 516 Burt Street | Syracuse | New York | 13212 | 100,000
Utica Municipal Housing Authority | 509 Second Street | Utica | New York | 13501 | 150,000
Gastonia Housing Authority | P.O. Box 2398, 340 West Long Avenue | Gastonia | North Carolina | 28053 | 150,000
Dayton Metropolitan Housing Authority | 400 Wayne Avenue | Dayton | Ohio | 45410 | 250,000
Lucas Metropolitan Housing Authority | 435 Nebraska Avenue | Toledo | Ohio | 43602 | 100,000
Housing Authority of the City of Tulsa | P.O. Box 6369 415 E. Independence St. | Tulsa | Oklahoma | 74148-0369 | 99,863
Oklahoma City Housing Authority | 1700 Northeast Fourth Street | Oklahoma City | Oklahoma | 73117 | 247,262
Housing Authority of Portland | 135 SW. Ash Street | Portland | Oregon | 97204 | 249,936
Salem Housing Authority | P.O. Box 808, 360 Church Street, SE. | Salem | Oregon | 97308-0808 | 150,000
Housing Authority of the County of Butler | 114 Woody Drive | Butler | Pennsylvania | 16001 | 50,000
Philadelphia Housing Authority | 12 S. 23rd Street | Philadelphia | Pennsylvania | 19103 | 450,000
Pawtucket Housing | 214 Roosevelt Ave. | Pawtucket | Rhode Island | 02862-1303 | 50,000
Providence Housing Authority | 100 Broad Street | Providence | Rhode Island | 02903 | 100,000
Woonsocket Housing Authority | 679 Social Street | Woonsocket | Rhode Island | 02895-2090 | 50,000
Chattanooga Housing Authority | P.O. Box 1486 | Chattanooga | Tennessee | 37401 | 250,000
Maryville Housing Authority | 100 Broadway Towers | Maryville | Tennessee | 37801 | 150,000
University of Memphis Foundation | 635 Normal Street | Memphis | Tennessee | 38152 | 293,825
Belton Housing Authority | 715 Saunders | Belton | Texas | 76513 | 150,000
Housing Authority of the City of Dallas, Texas | 3939 N. Hampton Road | Dallas | Texas | 75212 | 250,000
The Housing Authority of the City of San Antonio | P.O. Box 1300, 818 S. Flores Street | San Antonio | Texas | 78204 | 250,000
Danville Redevelopment and Housing Authority | 651 Cardinal Place | Danville | Virginia | 24541 | 150,000
Fairfax County Redevelopment and Housing Authority | 3700 Pender Drive, Suite 300 | Fairfax | Virginia | 22030 | 100,000
King County Housing Authority | 600 Andover Park West | Tukwila | Washington | 98188 | 100,000
Seattle Housing Authority | 120 Sixth Avenue North | Seattle | Washington | 98109-1028 | 250,000
Housing Authority of the City of Milwaukee | 809 North Broadway Street | Milwaukee | Wisconsin | 53202 | 250,000
Silver Spring Neighborhood Center, Inc. | 5460 N. 64th Street | Milwaukee | Wisconsin | 53218 | 100,000
Resident Opportunity & Self Sufficiency—RSDM Elderly
Selma Housing Authority | P.O. Box 950 | Selma | Alabama | 36702-0950 | 199,815
Tuscaloosa Housing Authority | 2808 10th Avenue, P.O. Box 2281 | Tuscaloosa | Alabama | 35403-2281 | 100,000
Housing Authority City of Santa Barbara | 808 Laguna Street | Santa Barbara | California | 93101 | 200,000
Housing Authority of the City of Los Angeles | 2600 Wilshire Boulevard, 3rd Floor | Los Angeles | California | 90057 | 200,000
Housing Authority of the County of Los Angeles | 2 Coral Circle | Monterey Park | California | 91755 | 300,000
Boulder Housing Partners, Inc. | 3120 Broadway | Boulder | Colorado | 80304 | 100,000
Gainesville Housing Authority | 1900 SE. 4th Street | Gainesville | Florida | 32602 | 200,000
Housing Authority of the City of Tampa | 1514 Union Street | Tampa | Florida | 33607 | 300,000
The Housing Authority of the City of Orlando | 300 Reeves Court | Orlando | Florida | 32801 | 200,000
Housing Authority of the City of Atlanta | 230 John Wesley Dobbs Avenue | Atlanta | Georgia | 30303 | 300,000
JWC Helping Hands, Inc | 2050 Bolt Drive | Augusta | Georgia | 30901 | 200,000
Housing and Community Development Corporation of Hawaii | 677 Queen Street Suite 300 | Honolulu | Hawaii | 96813 | 300,000
Housing Authority of Christian County | P.O. Box 86, 202 S. Poplar | Pana | Illinois | 62557 | 200,000
Housing Authority of Jefferson County | 1000 S. 9th Street, P.O. Box 1547 | Mount Vernon | Illinois | 62864 | 100,000
Housing Authority of the City of New Albany, IN | 500 Scribner Drive, P.O. Box 11 | New Albany | Indiana | 47151-0011 | 177,469
City of Wichita | 332 N. Riverview | Wichita | Kansas | 67203 | 200,000
Newton Housing Authority | 115 West 9th | Newton | Kansas | 67114 | 200,000
Housing Authority of Corbin | 1336 Madison Street | Corbin | Kentucky | 40701 | 100,000
Housing Authority of Covington | 2300 Madison Ave. | Covington | Kentucky | 41014 | 200,000
Housing Authority of Horse Cave | 990 North Dixie St., P.O. Box 8 | Horse Cave | Kentucky | 42749 | 59,836
Housing Authority of Martin | P.O. Box 806 | Martin | Kentucky | 41649 | 100,000
Housing Authority of Murray | 716 Nash Drive | Murray | Kentucky | 42071 | 100,000
Prince George's County Government, Maryland | 9400 Peppercorn Place, Suite 200 | Largo | Maryland | 20774 | 200,000
Mission Main Resident | 39 Smith Street | Roxbury | Massachusetts | 02120-2701 | 100,000
Services Corp., Grand Rapids Housing Commission | 1420 Fuller Avenue, SE. | Grand Rapids | Michigan | 49507 | 200,000
Melvindale Housing Commission | 3501 Oakwood Blvd. | Melvindale | Michigan | 48122 | 100,000
Natchez Housing Authority | 2 Auburn Avenue | Natchez | Mississippi | 39120 | 100,000
The Housing Authority of the City of Independence, Missouri | 210 South Pleasant | Independence | Missouri | 64050 | 105,003
Housing Authority of the County of Scotts Bluff, NE | 89A Woodley Park Road | Gering | Nebraska | 69341 | 100,000
Garfield Housing Authority | 71 Daniel P. Conte Court | Garfield | New Jersey | 07026 | 200,000
Housing Authority of the City of Linden | 1601 Dill Avenue | Linden | New Jersey | 07036 | 100,000
Housing Authority of the Township of Woodbridge | 20 Bunns Lane | Woodbridge | New Jersey | 07095 | 200,000
Truth or Consequences Housing Authority | 108 South Cedar Street | Truth or Consequences | New Mexico | 87901 | 100,000
Community Potential, Inc. | c/o Binghamton Housing Authority, 35 Exchange St. | Binghamton | New York | 13902 | 100,000
Geneva Housing Authority | 41 Lewis Street, P.O. Box 153 | Geneva | New York | 14456 | 100,000
New Rochelle Municipal Housing Authority | 50 Sickles Avenue | New Rochelle | New York | 10801 | 200,000
Utica Municipal Housing Authority | 509 Second Street | Utica | New York | 13501 | 100,000
Westchester Jewish Community Services | 845 North Broadway, Suite 2 | White Plains | New York | 10603-2427 | 100,000
Charlotte Housing Authority | 1301 S. Blvd., P.O. Box 36795 | Charlotte | North Carolina | 28203 | 282,300
Housing Authority of the City of High Point | Post Office Box 1779, 500 East Russell Avenue | High Point | North Carolina | 27260 | 199,998
Dayton Metropolitan Housing Authority | 400 Wayne Avenue | Dayton | Ohio | 45410 | 199,992
Housing and Community Services Agency of Lane County | 177 Day Island Road | Eugene | Oregon | 97401 | 200,000
Housing Authority of Clackamas County | P.O. Box 1510 | Oregon City | Oregon | 97045 | 100,000
Church and Farnum Resident Organization | Box D 33, Farnum Street, East | Lancaster | Pennsylvania | 17602 | 100,000
Mercer County Housing Authority | 80 Jefferson Avenue | Sharon | Pennsylvania | 16146 | 200,000
Crossville Housing | 67 Irwin Avenue, P.O. Box 425 | Crossville | Tennessee | 38557 | 100,000
Martin Housing Authority | 134 East Heights Drive | Martin | Tennessee | 38237 | 100,000
Rutland Housing Authority | 5 Tremont Street | Rutland | Vermont | 05701 | 100,000
Fairfax County RHA | 3700 Pender Drive | Fairfax | Virginia | 22030 | 100,000
Community Psychiatric Clinic | 4319 Stone Way, North | Seattle | Washington | 98103 | 300,000
Neighborhood House, Inc. | 905 Spruce St., Suite 200 | Seattle | Washington | 98104 | 100,000
Wheeling Housing Authority | P.O. Box 2089 | Wheeling | West Virginia | 26003 | 200,000
Arlington Court Resident Organization | 1633 North Arlington Place | Milwaukee | Wisconsin | 53202 | 100,000
Friends Of Housing Corporation | 9141 W. Lisbon Ave. | Milwaukee | Wisconsin | 53222 | 200,000
Highland Park Resident Organization | 1275 North 17th Street | Milwaukee | Wisconsin | 53205 | 100,000
Resident Opportunity & Self Sufficiency—RSDM Family
Mobile Housing Board | 151 S. Claiborne Street | Mobile | Alabama | 36602 | 500,000
White Mountain Apache Housing Authority | P.O. Box 1270 | Navajo | Arizona | 85941 | 350,000
City of Los Angeles Housing Authority | 2600 Wilshire Boulevard | Los Angeles | California | 90057 | 500,000
Housing Authority of the City of Oxnard | Oxnard Housing Authority, 435 South D Street | Oxnard | California | 93030 | 250,000
San Diego Housing Commission | 1625 Newton Avenue | San Diego | California | 92113-1038 | 350,000
Housing Authority of the City and County of Denver | 777 Grant Street | Denver | Colorado | 80203 | 350,000
Jefferson County Housing Authority | 6250 W. 38th Ave. | Wheat Ridge | Colorado | 80033 | 95,709
Hartford Housing Authority | 475 Flatbush Avenue | Hartford | Connecticut | 06106 | 248,079
Housing Authority of the City of Norwalk | 24 ½ Monroe Street | Norwalk | Connecticut | 06856-0508 | 250,000
Southfield Village Resident Council, Inc. | 245 Selleck Street | Stamford | Connecticut | 06902 | 100,000
Acorn Tenant Union—Training & Organizing Project | 739 8th Street, S.E. | Washington | District of Columbia | 20003 | 278,636
Acorn Tenant Union-Training & Organizing Project | 739 8th St. SE | Washington District of Columbia | 20003 | 230,500
Barry Farm Resident Council, Inc. | 1326 Stevens Road, SE | Washington | District of Columbia | 20020 | 100,000
Housing Authority of the City of Tampa | 1514 Union Street | Tampa | Florida | 33607 | 350,000
Housing Authority Cordele | 401 South Tenth Street | Cordele | Georgia | 31015 | 250,000
Decatur Housing Authority | 1808 East Locust Street | Decatur | Illinois | 62521 | 250,000
Beechwood Gardens Resident Management Corporation | 2952 Priscilla | Indianapolis | Indiana | 46218 | 100,000
Indianapolis Housing Agency | 1919 North Meridian | Indianapolis | Indiana | 46202 | 350,000
Iowa City Housing Authority | 410 E. Washington Street | Iowa City | Iowa | 52240 | 250,000
Housing Authority of Bowling Green | P.O. Box 116 | Bowling Green | Kentucky | 42102 | 250,000
Housing Authority of Hopkinsville | 400 North Elm Street, P.O. Box 437 | Hopkinsville | Kentucky | 42241-0437 | 250,000
Housing Authority of Owensboro | 2161 East 19th Street | Owensboro | Kentucky | 42303 | 250,000
Housing Authority of Somerset | P.O. Box 449 | Somerset | Kentucky | 42502 | 250,000
Louisville Metro Housing Authority | 420 South Eighth Street | Louisville | Kentucky | 40203 | 500,000
Cambridge Housing Authority | 675 Massachusetts Avenue | Cambridge | Massachusetts | 02139 | 350,000
Public Housing Agency of The City of St. Paul | 480 Cedar Street, Suite 600 | Saint Paul | Minnesota | 55101 | 350,000
St. Louis Housing Authority | 4100 Lindell Boulevard | St. Louis | Missouri | 63108 | 350,000
Omaha Housing Authority | 540 South 27th Street | Omaha | Nebraska | 68105 | 350,000
Housing Authority of the City of Perth Amboy | 881 Amboy Avenue, P.O. Box 390 | Perth Amboy | New Jersey | 08862 | 245,280
Pojoaque Housing Corporation | 5 W. Gutierrez, Suite 2-B | Sante Fe | New Mexico | 87506 | 250,000
Albany Housing Authority | 200 South Pearl Street | Albany | New York | 12202 | 250,000
Binghamton Housing Authority | 35 Exchange Street | Binghamton | New York | 13902 | 250,000
Youngstown Metropolitan Housing Authority | 131 West Boardman Street | Youngstown | Ohio | 44503-1399 | 349,920
Oklahoma City Housing Authority | 1700 Northeast 4th Street | Oklahoma City | Oklahoma | 73117-3800 | 348,652
Housing Authority of Clackamas | P.O. Box 1510 | Oregon City | Oregon | 97045 | 250,000
Housing Authority of Portland | 135 SW. Ash Street | Portland | Oregon | 97204 | 349,984
Housing Authority of the County of Beaver | 300 State Street | Beaver | Pennsylvania | 15009 | 350,000
Housing Authority of the City of Providence | 100 Broad Street | Providence | Rhode Island | 02903 | 350,000
Memphis Housing Authority | 700 Adams Avenue | Memphis | Tennessee | 38105 | 500,000
Fort Worth Housing Authority | 1201 West 13th Street | Fort Worth | Texas | 76102 | 350,000
Temple Housing Authority | 700 West Calhoun | Temple | Texas | 76501 | 250,000
Housing Authority of Salt Lake City | 1776 South West Temple | Salt Lake City | Utah | 84115 | 250,000
Danville Redevelopment and Housing Authority | 651 Cardinal Place | Danville | Virginia | 24541 | 250,000
Danville Resident Management Council, Inc. | 651 Cardinal Place | Danville | Virginia | 24541 | 300,000
Portsmouth Redevelopment & Housing Authority | 801 Water Street | Portsmouth | Virginia | 23704 | 350,000
Kitsap County Consolidated Housing Authority | 9307 Bayshore Drive NW | Silverdale | Washington | 98383-9113 | 250,000
Housing Authority of the City of Milwaukee | 809 North Broadway | Milwaukee | Wisconsin | 53202 | 350,000
Lac Courte Oreilles Housing Authority | 134 16 W Trepania Road | Hayward | Wisconsin | 54843 | 122,340
Eastern Shoshone Housing Authority | PO Box 1250 | Ft. Washakie | Wyoming | 82514 | 250,000

[FR Doc. E6-16617 Filed 10-6-06; 8:45 am]

BILLING CODE 4210-67-P